POSTAL SERVICE

International Product Change—United States Postal Service Inbound Market-Dominant Multi-Service Agreements With Foreign Postal Operators

AGENCY: Postal Service.™

ACTION: Notice.

SUMMARY: The Postal Service gives notice of filing a request with the Postal Regulatory Commission to add Inbound Market-Dominant Multi-Service Agreements to the Market-Dominant Products List pursuant to 39 U.S.C. 3642.

DATES: August 25, 2010.

FOR FURTHER INFORMATION CONTACT: Margaret M. Falwell, 703-292-3576.

SUPPLEMENTARY INFORMATION: The United States Postal Service® gives notice of the filing of a request with the Postal Regulatory Commission to Add Market-Dominant Multi-Service Agreements with Foreign Postal Administrations to the Market Dominant Product List, and Notice of Filing (Under Seal) the Enabling Governors' Decision. Documents are available at http://www.prc.gov, Docket Nos. MC2010-35, R2010-5, and R2010-6.

Neva R. Watson,
Attorney, Legislative.

[FR Doc. 2010-21148 Filed 8-24-10; 8:45 am]

BILLING CODE 7710-12-P